DEPARTMENT OF ENERGY

Federal Energy Regulatory Commission

[Docket No. RP02-216-002]

CenterPoint Energy Gas Transmission Company; Notice of Crediting Report

November 1, 2002.

Take notice that on October 29, 2002, CenterPoint Energy Gas Transmission Company (CEGT) tendered for filing a revision to its Annual Crediting Report for 2001 as directed by the Commission's order dated October 10, 2002.

CEGT states that copies of the filing has been mailed to each party listed on the official service list.

Any person desiring to protest said filing should file a protest with the Federal Energy Regulatory Commission, 888 First Street, NE., Washington, DC 20426, in accordance with Section 385.211 of the Commission's Rules and Regulations. All such protests must be filed on or before November 8, 2002. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Linwood A. Watson, Jr.,
Deputy Secretary.

[FR Doc. 02-28445 Filed 11-7-02; 8:45 am]

BILLING CODE 6717-01-P